DEPARTMENT OF HOMELAND SECURITY

U.S. Citizenship and Immigration Services

[CIS No. 2625-18; DHS Docket No. USCIS-2015-0005]

RIN 1615-ZB76

Extension of the Designation of Yemen for Temporary Protected Status

AGENCY: U.S. Citizenship and Immigration Services, Department of Homeland Security.

ACTION: Notice.

SUMMARY: Through this Notice, the Department of Homeland Security (DHS) announces that the Secretary of Homeland Security (Secretary) is extending the designation of Yemen for Temporary Protected Status (TPS) for 18 months, from September 4, 2018, through March 3, 2020. The extension allows currently eligible TPS beneficiaries to retain TPS through March 3, 2020, so long as they otherwise continue to meet the eligibility requirements for TPS.

This Notice also sets forth procedures necessary for nationals of Yemen (or aliens having no nationality who last habitually resided in Yemen) to re-register for TPS and to apply for Employment Authorization Documents (EADs) with U.S. Citizenship and Immigration Services (USCIS). USCIS will issue new EADs with a March 3, 2020 expiration date to eligible Yemen TPS beneficiaries who timely re-register and apply for EADs under this extension.

DATES: Extension of Designation of Yemen for TPS: The 18-month extension of the TPS designation of Yemen is effective September 4, 2018, and will remain in effect through March 3, 2020. The 60-day re-registration period runs from August 14, 2018 through October 15, 2018. (Note: It is important for re-registrants to timely re-register during this 60-day period and not to wait until their EADs expire.)

FOR FURTHER INFORMATION CONTACT:

• You may contact Samantha Deshommes, Branch Chief, Regulatory Coordination Division, Office of Policy and Strategy, U.S. Citizenship and Immigration Services, U.S. Department of Homeland Security, 20 Massachusetts Avenue NW, Washington, DC 20529-2060; or by phone at 800-375-5283.

• For further information on TPS, including guidance on the re-registration process and additional information on eligibility, please visit the USCIS TPS web page at http://www.uscis.gov/tps. You can find specific information about this extension of Yemen's TPS designation by selecting “Yemen” from the menu on the left side of the TPS web page.

• If you have additional questions about Temporary Protected Status, please visit uscis.gov/tools. Our online virtual assistant, Emma, can answer many of your questions and point you to additional information on our website. If you are unable to find your answers there, you may also call our USCIS Contact Center at 800-375-5283.

• Applicants seeking information about the status of their individual cases may check Case Status Online, available on the USCIS website at http://www.uscis.gov, or call the USCIS Contact Center at 800-375-5283 (TTY 800-767-1833).

• Further information will also be available at local USCIS offices upon publication of this Notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

FR—Federal Register

Government—U.S. Government

IJ—Immigration Judge

INA—Immigration and Nationality Act

IER—U.S. Department of Justice Civil Rights Division, Immigrant and Employee Rights Section

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Through this Notice, DHS sets forth procedures necessary for eligible nationals of Yemen (or aliens having no nationality who last habitually resided in Yemen) to re-register for TPS and to apply for renewal of their EADs with USCIS. Re-registration is limited to persons who have previously registered for TPS under the designation of Yemen and whose applications have been granted.

For individuals who have already been granted TPS under Yemen's designation, the 60-day re-registration period runs from August 14, 2018 through October 15, 2018. USCIS will issue new EADs with a March 3, 2020 expiration date to eligible Yemeni TPS beneficiaries who timely re-register and apply for EADs. Given the timeframes involved with processing TPS re-registration applications, DHS recognizes that not all re-registrants will receive new EADs before their current EADs expire on September 3, 2018. Accordingly, through this Federal Register notice, DHS automatically extends the validity of EADs issued under the TPS designation of Yemen for 180 days, through March 2, 2019. Additionally, individuals who have EADs with an expiration date of March 3, 2017, and who applied for a new EAD during the last re-registration period but have not yet received their new EADs are also covered by this automatic extension. These individuals may show their EAD indicating a March 3, 2017 expiration date and their EAD application receipt (Notice of Action, Form I-797C) that notes the application was received on or after January 4, 2017 to employers as proof of continued employment authorization through March 2, 2019. This Notice explains how TPS beneficiaries and their employers may determine which EADs are automatically extended and how this affects the Form I-9, Employment Eligibility Verification, and E-Verify processes.

Individuals who have a pending Yemen TPS application will not need to file a new Application for Temporary Protected Status (Form I-821). DHS provides additional instructions in this Notice for individuals whose TPS applications remain pending and who would like to obtain an EAD valid through March 3, 2020. There are approximately 1,250 current beneficiaries under Yemen's TPS designation.

What is Temporary Protected Status (TPS)?

• TPS is a temporary immigration status granted to eligible nationals of a country designated for TPS under the INA, or to eligible persons without nationality who last habitually resided in the designated country.

• During the TPS designation period, TPS beneficiaries are eligible to remain in the United States, may not be removed, and are authorized to obtain EADs so long as they continue to meet the requirements of TPS.

• TPS beneficiaries may also apply for and be granted travel authorization as a matter of discretion.

• The granting of TPS does not result in or lead to lawful permanent resident status.

• To qualify for TPS, beneficiaries must meet the eligibility standards at INA section 244(c)(1)-(2), 8 U.S.C. 1254a(c)(1)-(2).

• When the Secretary terminates a country's TPS designation, beneficiaries return to one of the following:

○ The same immigration status or category that they maintained before TPS, if any (unless that status or category has since expired or been terminated); or

○ Any other lawfully obtained immigration status or category they received while registered for TPS, as long as it is still valid beyond the date TPS terminates.

When was Yemen designated for TPS?

Former Secretary of Homeland Security Jeh Johnson initially designated Yemen for TPS on September 3, 2015, based on ongoing armed conflict in the country resulting from the July 2014 campaign by the Houthis, a northern opposition group that initiated a violent, territorial expansion across the country, eventually forcing the Yemeni Government leaders into exile in Saudi Arabia. See Designation of Republic of Yemen for Temporary Protected Status, 80 FR 53319 (Sept. 3, 2015). On January 4, 2017, former Secretary Johnson announced an 18-month extension of Yemen's existing designation and a new designation of Yemen for TPS on the dual bases of ongoing armed conflict and extraordinary and temporary conditions. See Extension and Redesignation of Republic of Yemen for Temporary Protected Status, 82 FR 859 (Jan. 4, 2017).

What authority does the Secretary have to extend the designation of Yemen for TPS?

Section 244(b)(1) of the INA, 8 U.S.C. 1254a(b)(1), authorizes the Secretary, after consultation with appropriate agencies of the U.S. Government (Government), to designate a foreign state (or part thereof) for TPS if the Secretary determines that certain country conditions exist.¹ The Secretary may then grant TPS to eligible nationals of that foreign state (or eligible aliens having no nationality who last habitually resided in the designated country). See INA section 244(a)(1)(A), 8 U.S.C. 1254a(a)(1)(A).

¹ As of March 1, 2003, in accordance with section 1517 of title XV of the Homeland Security Act of 2002, Public Law 107-296, 116 Stat. 2135, any reference to the Attorney General in a provision of the INA describing functions transferred from the Department of Justice to DHS “shall be deemed to refer to the Secretary” of Homeland Security. See 6 U.S.C. 557 (codifying the Homeland Security Act of 2002, tit. XV, section 1517).

At least 60 days before the expiration of a country's TPS designation or extension, the Secretary, after consultation with appropriate Government agencies, must review the conditions in the foreign state designated for TPS to determine whether the conditions for the TPS designation continue to be met. See INA section 244(b)(3)(A), 8 U.S.C. 1254a(b)(3)(A). If the Secretary does not determine that the foreign state no longer meets the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

Why is the Secretary extending the TPS designation for Yemen through March 3, 2020?

DHS has reviewed conditions in Yemen. Based on the review, including input received from other U.S. Government agencies, the Secretary has determined that an 18-month extension is warranted because the statutory bases of ongoing armed conflict and extraordinary and temporary conditions that prompted Yemen's 2017 extension and new designation for TPS persist.

The United Nations has verified more than 28,000 civilian casualties since March 2015, including around 9,500 civilian deaths by airstrikes. Civilians continue to be at risk of death and injury from indiscriminate artillery attacks, landmines, and unexploded ordinances. In addition to dangers generated by the Houthi and Saudi-led coalition military action, terrorist groups are taking advantage of the conflict to perpetrate attacks against civilians. Al-Qaeda in the Arabian Peninsula (AQAP) has gained influence and enabled the emergence of a faction of the self-described Islamic State (IS), IS-Y. AQAP and IS-Y terrorists have carried out attacks, kidnappings, and targeted assassinations throughout Yemen, including in Sana'a and Aden, since 2015. Yemen's minority Baha'i population has also been targeted for mistreatment in the ongoing conflict.

At least 2,400 child soldiers have been recruited by various parties in Yemen since March 2015, according to the United Nations. Houthi forces recruit boys as young as 11, often pulling them out of school and forcing them to fight on the front lines of the conflict. Although Houthi forces are allegedly responsible for the vast majority of child soldier recruitment, other groups in Yemen, including the Republic of Yemen Government (ROYG) and AQAP, also recruit children to fight.

Yemen is also experiencing a significant humanitarian crisis. An estimated 22.2 million people—over three-quarters of Yemen's population—are in need of humanitarian assistance in 2018, according to the United Nations—a 20 percent increase from January 2017. More than two million Yemenis remain internally displaced (down from a high of three million), and more than 280,000 people have fled the country (an increase of almost 100,000 from the last extension), including more than 64,000 Yemenis registered as refugees. The ongoing conflict has placed at least 8.4 million people at risk of famine. Sixteen million Yemenis lack access to safe water and sanitation, and 16.4 million people lack access to adequate health care, according to the United Nations. More than one million suspected cholera cases were reported between April 2017 and May 2018, according to the World Health Organization (WHO).

Yemen relies on imports for approximately 90 percent of staple food supplies. Prior to 2015, Yemen was already suffering from significant food insecurity. The United Nations estimated that, as of January 2018, nearly 18 million Yemenis were in need of food assistance, an increase over January 2017 estimates that 14 million people required food assistance. According to the WHO, the food crisis is particularly severe for young children. Around 1.8 million Yemeni children under the age of five are acutely malnourished, and 400,000 children under age five suffer from severe, acute malnutrition.

Much of Yemen's vital infrastructure has been destroyed as a result of the ongoing conflict. A January 2018 DOS Travel Advisory highlights the significant destruction of Yemen's infrastructure, housing, medical facilities, schools, and power and water utilities, limiting the availability of electricity, clean water, and medical care, and hampering humanitarian assistance. Since the beginning of the conflict, 274 of Yemen's health care facilities have been damaged or destroyed, according to the WHO.

Yemen's economy is also collapsing. The country's real GDP shrank by 10.9 percent in 2017. Average GDP per capita shrank from about $1,247 in 2014 to $485 in 2017, according to the Yemeni Ministry of Planning and International Cooperation.

Based upon this review and after consultation with appropriate Government agencies, the Secretary has determined that:

• The conditions supporting the 2017 extension and new designation of Yemen for TPS continue to be met. See INA section 244(b)(3)(A) and (C), 8 U.S.C. 1254a(b)(3)(A) and (C).

• There continues to be an ongoing armed conflict in Yemen and, due to such conflict, requiring the return of Yemeni nationals (or aliens having no nationality who last habitually resided in Yemen) to Yemen would pose a serious threat to their personal safety. See INA section 244(b)(1)(A), 8 U.S.C. 1254a(b)(1)(A).

• There continue to be extraordinary and temporary conditions in Yemen that prevent Yemeni nationals (or aliens having no nationality who last habitually resided in Yemen) from returning to Yemen in safety, and it is not contrary to the national interest of the United States to permit Yemeni TPS beneficiaries to remain in the United States temporarily. See INA section 244(b)(1)(C), 8 U.S.C. 1254a(b)(1)(C).

• The designation of Yemen for TPS should be extended for an 18-month period, from September 4, 2018 through March 3, 2020. See INA section 244(b)(3)(C), 8 U.S.C. 1254a(b)(3)(C).

Notice of Extension of the TPS Designation of Yemen

By the authority vested in me as Secretary under INA section 244, 8 U.S.C. 1254a, I have determined, after consultation with the appropriate Government agencies, the conditions that supported Yemen's 2017 extension and new designation for TPS continue to be met. See INA section 244(b)(3)(A), 8 U.S.C. 1254a(b)(3)(A). On the basis of this determination, I am extending the existing designation of TPS for Yemen for 18 months, from September 4, 2018, through March 3, 2020. See INA section 244(b)(1)(A), (b)(1)(C); 8 U.S.C. 1254a(b)(1)(A), (b)(1)(C).

Kirstjen M. Nielsen,
Secretary.

Required Application Forms and Application Fees To Re-Register for TPS

To re-register for TPS based on the designation of Yemen, you must submit an Application for Temporary Protected Status (Form I-821). You do not need to pay the filing fee for the Form I-821. See 8 CFR 244.17. You may be required to pay the biometric services fee. Please see additional information under the “Biometric Services Fee” section of this Notice.

Through operation of this Federal Register notice, your existing EAD issued under the TPS designation of Yemen with the expiration date of September 3, 2018 is automatically extended for 180 days, through March 2, 2019. However, if you want to obtain a new EAD valid through March 3, 2020, you must file an Application for Employment Authorization (Form I-765) and pay the Form I-765 fee (or request a fee waiver). If you do not want a new EAD, you do not have to file Form I-765 or pay the Form I-765 fee. If you do not want to request a new EAD now, you may also file Form I-765 at a later date and pay the fee (or request a fee waiver), provided that you still have TPS or a pending TPS application.

Additionally, individuals who have EADs with an expiration date of March 3, 2017, and who applied for a new EAD during the last re-registration period but have not yet received their new EADs are also covered by this automatic extension through March 2, 2019. You do not need to apply for a new EAD in order to benefit from this 180-day automatic extension. If you have a Form I-821 and/or Form I-765 that was still pending as of August 14, 2018, then you do not need to file either application again. If your pending TPS application is approved, you will be granted TPS through March 3, 2020. Similarly, if you have a pending TPS-related application for an EAD that is approved, it will be valid through the same date.

You may file the application for a new EAD either prior to or after your current EAD has expired. However, you are strongly encouraged to file your application for a new EAD as early as possible to avoid gaps in the validity of your employment authorization documentation and to ensure that you receive your new EAD by March 2, 2019.

For more information on the application forms and fees for TPS, please visit the USCIS TPS web page at http://www.uscis.gov/tps. Fees for the Form I-821, the Form I-765, and biometric services are also described in 8 CFR 103.7(b)(1)(i).

Biometric Services Fee

Biometrics (such as fingerprints) are required for all applicants 14 years of age and older. Those applicants must submit a biometric services fee. As previously stated, if you are unable to pay for the biometric services fee, you may complete a Form I-912 or submit a personal letter requesting a fee waiver, with satisfactory supporting documentation. For more information on the biometric services fee, please visit the USCIS website at http://www.uscis.gov. If necessary, you may be required to visit an Application Support Center to have your biometrics captured. For additional information on the USCIS biometrics screening process, please see the USCIS Customer Profile Management Service Privacy Impact Assessment, available at www.dhs.gov/privacy.

Refiling a Re-Registration TPS Application After Receiving a Denial of a Fee Waiver Request

You should file as soon as possible within the 60-day re-registration period so USCIS can process your application and issue any EAD promptly. Properly filing early will also allow you to have time to refile your application before the deadline, should USCIS deny your fee waiver request. If, however, you receive a denial of your fee waiver request and are unable to refile by the re-registration deadline, you may still refile your Form I-821 with the biometrics fee. This situation will be reviewed to determine whether you established good cause for late TPS re-registration. However, you are urged to refile within 45 days of the date on any USCIS fee waiver denial notice, if possible. See INA section 244(c)(3)(C); 8 U.S.C. 1254a(c)(3)(C); 8 CFR 244.17(b). For more information on good cause for late re-registration, visit the USCIS TPS web page at http://www.uscis.gov/tps. Following denial of your fee waiver request, you may also refile your Form I-765 with fee either with your Form I-821 or at a later time, if you choose.

Note: Although a re-registering TPS beneficiary age 14 and older must pay the biometric services fee (but not the Form I-821 fee) when filing a TPS re-registration application, you may decide to wait to request an EAD. Therefore, you do not have to file the Form I-765 or pay the associated Form I-765 fee (or request a fee waiver) at the time of re-registration, and could wait to seek an EAD until after USCIS has approved your TPS re-registration application. If you choose to do this, to re-register for TPS you would only need to file the Form I-821 with the biometrics services fee, if applicable, (or request a fee waiver).

Mailing Information

Mail your application for TPS to the proper address in Table 1.

Table 1—Mailing Addresses
If you would like to send your application by: | Then, mail your application to:
U.S. Postal Service | U.S. Citizenship and Immigration Services, Attn: TPS Yemen, P.O. Box 6943, Chicago, IL 60680-6943.
A non-U.S. Postal Service courier | U.S. Citizenship and Immigration Services, Attn: TPS Yemen, 131 S. Dearborn Street—3rd Floor, Chicago, IL 60603-5517.

If you were granted TPS by an Immigration Judge (IJ) or the Board of Immigration Appeals (BIA) and you wish to request an EAD or are re-registering for the first time following a grant of TPS by an IJ or the BIA, please mail your application to the appropriate mailing address in Table 1. When re-registering and requesting an EAD based on an IJ/BIA grant of TPS, please include a copy of the IJ or BIA order granting you TPS with your application. This will help us to verify your grant of TPS and process your application.

Supporting Documents

The filing instructions on the Form I-821 list all the documents needed to establish eligibility for TPS. You may also find information on the acceptable documentation and other requirements for applying or registering for TPS on the USCIS website at www.uscis.gov/tps under “Yemen.”

Employment Authorization Document (EAD)

How can I obtain information on the status of my EAD request?

To get case status information about your TPS application, including the status of an EAD request, you can check Case Status Online at http://www.uscis.gov, or call the USCIS National Contact Center at 800-375-5283 (TTY 800-767-1833). If your Form I-765 has been pending for more than 90 days, and you still need assistance, you may request an EAD inquiry appointment with USCIS by using the InfoPass system at https://infopass.uscis.gov. However, we strongly encourage you first to check Case Status Online or call the USCIS National Contact Center for assistance before making an InfoPass appointment.

Am I eligible to receive an automatic 180-day extension of my current EAD through March 2, 2019, using this Federal Register notice?

Yes. Provided that you currently have a Yemen TPS-based EAD, this Federal Register notice automatically extends your EAD through March 2, 2019, if you:

• Are a national of Yemen (or an alien having no nationality who last habitually resided in Yemen); and either

• Have an EAD with a marked expiration date of September 3, 2018, bearing the notation A-12 or C-19 on the face of the card under Category, or

• Have an EAD with a marked expiration date of March 3, 2017, bearing the notation A-12 or C-19 on the face of the card under Category and you applied for a new EAD during the last re-registration period but have not yet received a new EAD.

Although this Federal Register notice automatically extends your EAD through March 2, 2019, you must re-register timely for TPS in accordance with the procedures described in this Federal Register notice if you would like to maintain your TPS.

When hired, what documentation may I show to my employer as evidence of employment authorization and identity when completing Employment Eligibility Verification (Form I-9)?

You can find a list of acceptable document choices on the “Lists of Acceptable Documents” for Form I-9. Employers must complete Form I-9 to verify the identity and employment authorization of all new employees. Within three days of hire, employees must present acceptable documents to their employers as evidence of identity and employment authorization to satisfy Form I-9 requirements.

You may present any document from List A (which provides evidence of both identity and employment authorization), or one document from List B (which provides evidence of your identity) together with one document from List C (which is evidence of employment authorization), or you may present an acceptable receipt for List A, List B, or List C documents as described in the Form I-9 Instructions. Employers may not reject a document based on a future expiration date. You can find additional detailed information about Form I-9 on USCIS' I-9 Central web page at http://www.uscis.gov/I-9Central.

An EAD is an acceptable document under List A. If your EAD has an expiration date of September 3, 2018, or March 3, 2017 (and you applied for a new EAD during the last re-registration period but have not yet received a new EAD), and states A-12 or C-19 under Category, it has been extended automatically by virtue of this Federal Register notice and you may choose to present this Notice along with your EAD to your employer as proof of identity and employment eligibility for Form I-9 through March 2, 2019, unless your TPS has been withdrawn or your request for TPS has been denied. If you have an EAD with a marked expiration date of September 3, 2018 that states A-12 or C-19 under Category, and you properly filed for a new EAD in accordance with this Notice, you will also receive Form I-797C, Notice of Action that will state your EAD is automatically extended for 180 days. You may choose to present your EAD to your employer together with this Form I-797C as a List A document that provides evidence of your identity and employment authorization for Form I-9 through March 2, 2019, unless your TPS has been withdrawn or your request for TPS has been denied. See the subsection titled, “How do my employer and I complete the Employment Eligibility Verification (Form I-9) using an automatically extended EAD for a new job?” for further information.

To reduce confusion over this extension at the time of hire, you should explain to your employer that your EAD has been automatically extended through March 2, 2019. You may also provide your employer with a copy of this Federal Register notice, which explains that your EAD has been automatically extended. As an alternative to presenting evidence of your automatically extended EAD, you may choose to present any other acceptable document from List A, a combination of one selection from List B and one selection from List C, or a valid receipt.

What documentation may I present to my employer for Employment Eligibility Verification (Form I-9) if I am already employed but my current TPS-related EAD is set to expire?

Even though your EAD has been automatically extended, your employer is required by law to ask you about your continued employment authorization no later than before you start work on September 4, 2018. You will need to present your employer with evidence that you are still authorized to work. Once presented, you may correct your employment authorization expiration date in Section 1 and your employer should correct the EAD expiration date in Section 2 of Form I-9. See the subsection titled, “What corrections should my current employer and I make to Employment Eligibility Verification (Form I-9) if my employment authorization has been automatically extended?” for further information. You may show this Federal Register notice to your employer to explain what to do for Form I-9 and to show that your EAD has been automatically extended through March 2, 2019. Your employer may need to reinspect your automatically extended EAD to check the expiration date and Category code if your employer did not keep a copy of this EAD when you initially presented it. In addition, if you have an EAD with a marked expiration date of September 3, 2018 that states A-12 or C-19 under Category, and you properly filed your Form I-765 to obtain a new EAD, you will receive a Form I-797C, Notice of Action. Form I-797C will state that your EAD is automatically extended for 180 days. You may present Form I-797C to your employer along with your EAD to confirm that the validity of your EAD has been automatically extended through March 2, 2019, unless your TPS has been withdrawn or your request for TPS has been denied. To reduce the possibility of gaps in your employment authorization documentation, you should file your Form I-765 to request a new EAD as early as possible during the re-registration period.

The last day of the automatic EAD extension is March 2, 2019. Before you start work on March 3, 2019, your employer must reverify your employment authorization. At that time, you must present any document from List A or any document from List C on Form I-9 Lists of Acceptable Documents, or an acceptable List A or List C receipt described in the Form I-9 Instructions to reverify employment authorization.

By March 3, 2019, your employer must complete Section 3 of the current version of the form, Form I-9 07/17/17 N, and attach it to the previously completed Form I-9, if your original Form I-9 was a previous version. Your employer can check the USCIS' I-9 Central web page at http://www.uscis.gov/I-9Central for the most current version of Form I-9.

Note that your employer may not specify which List A or List C document you must present and cannot reject an acceptable receipt.

Can my employer require that I provide any other documentation to prove my status, such as proof of my Yemeni citizenship?

No. When completing Form I-9, including reverifying employment authorization, employers must accept any documentation that appears on the Form I-9 “Lists of Acceptable Documents” that reasonably appears to be genuine and that relates to you, or an acceptable List A, List B, or List C receipt. Employers need not reverify List B identity documents. Employers may not request documentation that does not appear on the “Lists of Acceptable Documents.” Therefore, employers may not request proof of Yemeni citizenship or proof of re-registration for TPS when completing Form I-9 for new hires or reverifying the employment authorization of current employees. If presented with EADs that have been automatically extended, employers should accept such documents as a valid List A document so long as the EAD reasonably appears to be genuine and relates to the employee. Refer to the Note to Employees section of this Federal Register notice for important information about your rights if your employer rejects lawful documentation, requires additional documentation, or otherwise discriminates against you based on your citizenship or immigration status, or your national origin.

How do my employer and I complete Employment Eligibility Verification (Form I-9) using my automatically extended employment authorization for a new job?

When using an automatically extended EAD to complete Form I-9 for a new job before March 3, 2019, you and your employer should do the following:

1. For Section 1, you should:

a. Check “An alien authorized to work until” and enter March 2, 2019, the automatically extended EAD expiration date as the “expiration date”; and

b. Enter your Alien Number/USCIS number or A-Number where indicated (your EAD or other document from DHS will have your USCIS number or A-Number printed on it; the USCIS number is the same as your A-Number without the A prefix).

2. For Section 2, employers should:

a. Determine if the EAD is auto-extended by ensuring it is in category A-12 or C-19 and has a September 3, 2018 expiration date (or March 3, 2017 expiration date provided you applied for a new EAD during the last re-registration period but have not yet received a new EAD);

b. Write in the document title;

c. Enter the issuing authority;

d. Provide the document number; and

e. Write March 2, 2019, as the expiration date.

Before the start of work on March 3, 2019, employers must reverify the employee's employment authorization in Section 3 of Form I-9.

What corrections should my current employer and I make to Employment Eligibility Verification (Form I-9) if my employment authorization has been automatically extended?

If you presented a TPS-related EAD that was valid when you first started your job and your EAD has now been automatically extended, your employer may need to re-inspect your current EAD if they do not have a copy of the EAD on file. You may, and your employer should, correct your previously completed Form I-9 as follows:

1. For Section 1, you may:

a. Draw a line through the expiration date in Section 1;

b. Write March 2, 2019, above the previous date; and

c. Initial and date the correction in the margin of Section 1.

2. For Section 2, employers should:

a. Determine if the EAD is auto-extended by ensuring:

• It is in category A-12 or C-19; and

• Has a marked expiration date of September 3, 2018 or March 3, 2017, provided your employee applied for a new EAD during the last re-registration period but has not yet received a new EAD.

b. Draw a line through the expiration date written in Section 2;

c. Write March 2, 2019 above the previous date; and

d. Initial and date the correction in the Additional Information field in Section 2.

Note: This is not considered a reverification. Employers do not need to complete Section 3 until either the 180-day automatic extension has ended or the employee presents a new document to show continued employment authorization, whichever is sooner. By March 3, 2019, when the employee's automatically extended EAD has expired, employers must reverify the employee's employment authorization in Section 3.

If I am an employer enrolled in E-Verify, how do I verify a new employee whose EAD has been automatically extended?

Employers may create a case in E-Verify for these employees by providing the employee's Alien Registration number, USCIS number, and entering the receipt number as the document number on Form I-9 into the document number field in E-Verify.

If I am an employer enrolled in E-Verify, what do I do when I receive a “Work Authorization Documents Expiration” alert for an automatically extended EAD?

E-Verify has automated the verification process for employees whose TPS-related EAD was automatically extended. If you have employees who are TPS beneficiaries who provided a TPS-related EAD when they first started working for you, you will receive a “Work Authorization Documents Expiring” case alert when the auto-extension period for this EAD is about to expire. The alert indicates that before this employee starts to work on March 3, 2019, you must reverify his or her employment authorization in Section 3 of Form I-9. Employers should not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I9Central@dhs.gov. Calls and emails are accepted in English and many other languages. For questions about avoiding discrimination during the employment eligibility verification process (Form I-9 and E-Verify), employers may call the U.S. Department of Justice's Civil Rights Division, Immigrant and Employee Rights Section (IER) (formerly the Office of Special Counsel for Immigration-Related Unfair Employment Practices) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@dhs.gov. Calls are accepted in English, Spanish, and many other languages. Employees or applicants may also call the IER Worker Hotline at 800-255-7688 (TTY 800-237-2515) for information regarding employment discrimination based upon citizenship, immigration status, or national origin, including discrimination related to Employment Eligibility Verification (Form I-9) and E-Verify. The IER Worker Hotline provides language interpretation in numerous languages.

To comply with the law, employers must accept any document or combination of documents from the Lists of Acceptable Documents if the documentation reasonably appears to be genuine and to relate to the employee, or an acceptable List A, List B, or List C receipt as described in the Employment Eligibility Verification (Form I-9) Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from an employee's Form I-9 differs from Federal or state government records.

Employers may not terminate, suspend, delay training, withhold pay, lower pay, or take any adverse action against an employee because of the TNC while the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS website at http://www.dhs.gov/E-verify.

Note Regarding Federal, State, and Local Government Agencies (Such as Departments of Motor Vehicles)

While Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples of such documents are:

(1) Your current EAD;

(2) A copy of your Notice of Action (Form I-797C), the notice of receipt, for your application to renew your current EAD providing an automatic extension of your currently expired or expiring EAD;

(3) A copy of your Notice of Action (Form I-797C), the notice of receipt, for your Application for Temporary Protected Status for this re-registration; and

(4) A copy of your Notice of Action (Form I-797), the notice of approval, for a past or current Application for Temporary Protected Status, if you received one from USCIS. Check with the government agency regarding which document(s) the agency will accept. Some benefit-granting agencies use the USCIS Systematic Alien Verification for Entitlements (SAVE) program to confirm the current immigration status of applicants for public benefits. In most cases, SAVE provides an automated electronic response to benefit-granting agencies within seconds, but, occasionally, verification can be delayed. You can check the status of your SAVE verification by using CaseCheck at the following link: https://save.uscis.gov/casecheck/, then by clicking the “Check Your Case” button. CaseCheck is a free service that lets you follow the progress of your SAVE verification using your date of birth and one immigration identifier number. If an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found on the SAVE website at http://www.uscis.gov/save.

[FR Doc. 2018-17556 Filed 8-10-18; 4:15 pm]

BILLING CODE 9111-97-P